ENVIRONMENTAL PROTECTION AGENCY

40 CFR Part 52

[EPA-R04-OAR-2019-0447; FRL-10014-51-Region 4 ]

Air Plan Approval; MS; BART SIP and Regional Haze Progress Report

AGENCY: Environmental Protection Agency (EPA).

ACTION: Proposed rule; reopening of public comment period.

SUMMARY: The Environmental Protection Agency (EPA) is reopening the comment period until October 5, 2020, for a notice of proposed rulemaking (NPRM) published in the Federal Register on August 4, 2020. In the August 4, 2020, NPRM, EPA proposed to approve, through parallel processing, a draft Mississippi State Implementation Plan (SIP) revision, submitted through a letter dated April 23, 2020, addressing best available retrofit technology (BART) determinations for 14 electric generating units (“draft BART SIP”). EPA proposed to approve the draft BART SIP and find that it corrects the deficiencies that led to the limited approval and limited disapproval of the State's regional haze SIP; withdraw the limited disapproval of the regional haze SIP; and replace the prior limited approval with a full approval of the regional haze SIP as meeting all regional haze requirements of the Clean Air Act (CAA) for the first implementation period. In addition, EPA proposed to approve the State's first periodic report describing progress towards reasonable progress goals (RPGs) established for regional haze and the associated determination that the State's regional haze SIP is adequate to meet these RPGs for the first implementation period (“Progress Report”). The State submitted the Progress Report as a SIP revision by letter dated October 4, 2018. EPA is reopening the comment period based on Sierra Club's request for visibility modeling files and for a 30-day extension of the comment period.

DATES: The comment period for the NPRM published August 4, 2020 (85 FR 47134), is reopened, and comments must be received on or before October 5, 2020.

ADDRESSES: Submit your comments, identified by Docket ID No. EPA-R04-OAR-2019-0447, at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Michele Notarianni, Air Regulatory Management Section, Air Planning and Implementation Branch, Air and Radiation Division, U.S. Environmental Protection Agency, Region 4, 61 Forsyth Street SW, Atlanta, Georgia 30303-8960. Ms. Notarianni can be reached via telephone at (404) 562-9031 or electronic mail at notarianni.michele@epa.gov.

SUPPLEMENTARY INFORMATION: EPA published a proposed rulemaking on August 4, 2020 (85 FR 47134). EPA proposed to approve Mississippi's draft BART SIP and find that it corrects deficiencies that led to a limited approval and limited disapproval of the State's regional haze SIP; withdraw the limited disapproval of Mississippi's regional haze SIP; and fully approve Mississippi's regional haze SIP as meeting all regional haze requirements of the CAA for the first implementation period, replacing the prior limited approval. EPA also proposed to approve Mississippi's October 4, 2018, regional haze Progress Report as meeting the applicable regional haze requirements set forth in 40 CFR 51.308(g) and to approve the State's negative declaration under § 51.308(h).

EPA is reopening the comment period based on a request from Sierra Club for visibility modeling files related to the proposed rulemaking and for a 30-day extension of the comment period until October 5, 2020. A copy of Sierra Club's request is in the docket. After reviewing this request, EPA has decided to reopen the comment period until October 5, 2020.

Authority: 42 U.S.C. 7401 et seq.

Dated: September 1, 2020.
Mary Walker,
Regional Administrator, Region 4.

[FR Doc. 2020-20555 Filed 9-17-20; 8:45 am]

BILLING CODE 6560-50-P